DEPARTMENT OF ENERGY

Federal Energy Regulatory Commission

Combined Notice of Filings #1

Take notice that the Commission received the following exempt wholesale generator filings:

Docket Numbers: EG24-230-000.

Applicants: BCD 2024 Fund 5 Lessee, LLC.

Description: BCD 2024 Fund 5 Lessee, LLC submits Notice of Self-Certification of Exempt Wholesale Generator Status.

Filed Date: 7/11/24.

Accession Number: 20240711-5041.

Comment Date: 5 p.m. ET 8/1/24.

Docket Numbers: EG24-231-000.

Applicants: Envoy Solar, LLC.

Description: Envoy Solar, LLC submits Notice of Self-Certification of Exempt Wholesale Generator Status.

Filed Date: 7/11/24.

Accession Number: 20240711-5042.

Comment Date: 5 p.m. ET 8/1/24.

Take notice that the Commission received the following Complaints and Compliance filings in EL Dockets:

Docket Numbers: EL24-126-000.

Applicants: Independent Market Monitor for PJM v. PJM Interconnection, L.L.C.

Description: Complaint of Independent Market Monitor for PJM v. PJM Interconnection, L.L.C.

Filed Date: 7/11/24.

Accession Number: 20240711-5021.

Comment Date: 5 p.m. ET 7/31/24.

Take notice that the Commission received the following electric rate filings:

Docket Numbers: ER22-2200-002.

Applicants: Atlantic City Electric Company, PJM Interconnection, L.L.C.

Description: Compliance filing: Atlantic City Electric Company submits tariff filing per 35: ACE Compliance Filing in ER22-2200 to be effective 9/1/2022.

Filed Date: 7/11/24.

Accession Number: 20240711-5046.

Comment Date: 5 p.m. ET 8/1/24.

Docket Numbers: ER24-1701-001.

Applicants: California Independent System Operator Corporation.

Description: Compliance filing: 2024-07-11 Compliance Filing—Effective Date of TCA Revisions—DCRT to be effective 6/12/2024.

Filed Date: 7/11/24.

Accession Number: 20240711-5121.

Comment Date: 5 p.m. ET 8/1/24.

Docket Numbers: ER24-2493-000.

Applicants: PJM Interconnection, L.L.C.

Description: § 205(d) Rate Filing: Amendment to ISA, Service Agreement No. 4082; AD2-112 to be effective 1/22/2024.

Filed Date: 7/10/24.

Accession Number: 20240710-5173.

Comment Date: 5 p.m. ET 7/31/24.

Docket Numbers: ER24-2494-000.

Applicants: PJM Interconnection, L.L.C.

Description: § 205(d) Rate Filing: Amendment to ISA, Service Agreement No. 6248; AE2-206/AF1-078 to be effective 9/9/2024.

Filed Date: 7/10/24.

Accession Number: 20240710-5179.

Comment Date: 5 p.m. ET 7/31/24.

Docket Numbers: ER24-2495-000.

Applicants: Midcontinent Independent System Operator, Inc., Ameren Illinois Company.

Description: § 205(d) Rate Filing: Midcontinent Independent System Operator, Inc. submits tariff filing per 35.13(a)(2)(iii: 2024-07-11_SA 4309 Ameren Illinois-CG Pike Creek E&P (J1831) to be effective 7/12/2024.

Filed Date: 7/11/24.

Accession Number: 20240711-5035.

Comment Date: 5 p.m. ET 8/1/24.

Docket Numbers: ER24-2496-000.

Applicants: PJM Interconnection, L.L.C.

Description: § 205(d) Rate Filing: Amendment to ISA, SA No. 6552; Queue Nos. AE2-318/AF1-045 (amend) to be effective 9/10/2024.

Filed Date: 7/11/24.

Accession Number: 20240711-5038.

Comment Date: 5 p.m. ET 8/1/24.

Docket Numbers: ER24-2497-000.

Applicants: Buckeye Plains Solar Project, LLC.

Description: Compliance filing: Affiliate Rule Limited Waiver Filing—Buckeye Plains to be effective 9/9/2024.

Filed Date: 7/11/24.

Accession Number: 20240711-5076.

Comment Date: 5 p.m. ET 8/1/24.

Docket Numbers: ER24-2498-000.

Applicants: Foxhound Solar, LLC.

Description: Compliance filing: Affiliate Rule Limited Waiver Filing—Foxhound to be effective 9/9/2024.

Filed Date: 7/11/24.

Accession Number: 20240711-5087.

Comment Date: 5 p.m. ET 8/1/24.

Docket Numbers: ER24-2499-000.

Applicants: PJM Interconnection, L.L.C.

Description: § 205(d) Rate Filing: Amendment to ISA, Service Agreement No. 6024; AB2-135 to be effective 9/10/2024.

Filed Date: 7/11/24.

Accession Number: 20240711-5089.

Comment Date: 5 p.m. ET 8/1/24.

Docket Numbers: ER24-2500-000.

Applicants: Pickaway County Solar Project, LLC.

Description: Compliance filing: Affiliate Rule Limited Waiver Filing—Pickaway to be effective 9/9/2024.

Filed Date: 7/11/24.

Accession Number: 20240711-5090.

Comment Date: 5 p.m. ET 8/1/24.

Docket Numbers: ER24-2501-000.

Applicants: Virginia Electric and Power Company.

Description: Compliance filing: Affiliate Rule Limited Waiver Filing—DEV (Market-Based Sales Tariff) to be effective 9/9/2024.

Filed Date: 7/11/24.

Accession Number: 20240711-5092.

Comment Date: 5 p.m. ET 8/1/24.

Docket Numbers: ER24-2502-000.

Applicants: Virginia Electric and Power Company.

Description: Compliance filing: Affiliate Rule Limited Waiver Filing—DEV (Wholesale Market-Based Sales Tariff) to be effective 9/9/2024.

Filed Date: 7/11/24.

Accession Number: 20240711-5094.

Comment Date: 5 p.m. ET 8/1/24.

Docket Numbers: ER24-2503-000.

Applicants: El Paso Electric Company.

Description: § 205(d) Rate Filing: OATT Non-substantive Revisions to Part II.17, Part II.18 and Part III.29 to be effective 7/12/2024.

Filed Date: 7/11/24.

Accession Number: 20240711-5097.

Comment Date: 5 p.m. ET 8/1/24.

Docket Numbers: ER24-2504-000.

Applicants: PJM Interconnection, L.L.C.

Description: § 205(d) Rate Filing: Amended ISA, Service Agreement No. 5846; AB2-133 to be effective 9/10/2024.

Filed Date: 7/11/24.

Accession Number: 20240711-5153.

Comment Date: 5 p.m. ET 8/1/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 11, 2024.
Debbie-Anne A. Reese,
Acting Secretary.

[FR Doc. 2024-15727 Filed 7-16-24; 8:45 am]

BILLING CODE 6717-01-P